DEPARTMENT OF TRANSPORTATION

Federal Transit Administration

49 CFR Part 674

[Docket No. FTA-2023-0008]

RIN 2132-AB42

State Safety Oversight

AGENCY: Federal Transit Administration (FTA), Department of Transportation (DOT).

ACTION: Notification of enforcement discretion.

SUMMARY: This document announces that FTA will not take enforcement action against regulated entities for failing to comply with the State Safety Oversight final rule, published on October 18, 2024, until March 20, 2025.

DATES: As of February 24, 2025, enforcement of the amendments enacted in the final rule published October 18, 2024, at 89 FR 83956, is delayed until March 20, 2025.

FOR FURTHER INFORMATION CONTACT: For program questions, Melonie Barrington, Office of Safety Review, (202) 366-0332, or melonie.barrington@dot.gov. For legal questions, Richard Wong, Office of the Chief Counsel, (202) 366-4011, or richard.wong@dot.gov.

ADDRESSES: Electronic Access and Filing: This document, the notice of proposed rulemaking (NPRM), all comments received, the final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.Govlnfo.gov.

SUPPLEMENTARY INFORMATION: On January 20, 2025, the President issued a memorandum, titled “Regulatory Freeze Pending Review,” 90 FR 8249 (Jan. 28, 2025), to direct the heads of Executive Departments and Agencies to consider postponing for sixty days from the date of the memorandum the effective date for any rules published in the Federal Register but that had not yet taken effect, for the purpose of reviewing any questions of fact, law, and policy that the rules may raise. While not explicitly subject to the President's memorandum, because the rule has been in effect since January 1, 2025, FTA is providing notice that it will exercise its enforcement discretion and not enforce the provisions of the State Safety Oversight final rule until March 20, 2025, consistent with the intent of the President's memorandum. This will allow the officials appointed or designated by the President to review the final rule to ensure that it is consistent with the law and Administration policies. The State Safety Oversight final rule was published in the Federal Register on October 18, 2024, at 89 FR 83956. It implements new requirements of the Infrastructure Investment and Jobs Act, removes outdated references, and simplifies notification requirements.

Authority: 49 U.S.C. 5329, 1 CFR 1.91.

Matthew J. Welbes,
Executive Director.

[FR Doc. 2025-02987 Filed 2-21-25; 8:45 am]

BILLING CODE 4910-57-P